DEPARTMENT OF THE INTERIOR

Fish and Wildlife Service

[FWS-HQ-FAC-2018-N024; FF09F42300-FVWF97920900000-XXX]

Sport Fishing and Boating Partnership Council Meeting

AGENCY: Fish and Wildlife Service, Interior.

ACTION: Notice of meeting.

SUMMARY: We, the U.S. Fish and Wildlife Service (Service), announce a public meeting of the Sport Fishing and Boating Partnership Council (Council). A Federal advisory committee, the Council was created in part to foster partnerships to enhance public awareness of the importance of aquatic resources and the social and economic benefits of recreational fishing and boating in the United States. This meeting is open to the public, and anyone interested may make oral statements to the Council or file written statements for consideration.

DATES: The meeting will take place April 4, 2018, from 9 a.m. to 4:30 p.m. (Eastern Time) and April 5, 2018, from 9 a.m. to 4 p.m. For deadlines and directions on registering to attend the meeting, submitting written material, and/or giving an oral presentation, please see Public Input under SUPPLEMENTARY INFORMATION.

ADDRESSES: The meeting will be held at the Department of the Interior, 1849 C Street NW, Room 5160, Washington, DC 20240.

FOR FURTHER INFORMATION CONTACT: Linda Friar, Designated Federal Officer, Sport Fishing and Boating Partnership Council, 5275 Leesburg Pike, Mailstop FAC, Falls Church, VA 22041; telephone (703) 358-2056; fax (703) 358-2487; or email linda_friar@fws.gov.

SUPPLEMENTARY INFORMATION: In accordance with the requirements of the Federal Advisory Committee Act, 5 U.S.C. App., we announce that the Sport Fishing and Boating Partnership Council will hold a meeting April 4 and 5, 2018.

Background

The Council was formed in January 1993 under the provisions of 41 CFR 101-6.1007 to advise the Secretary of the Interior, through the Director of the U.S. Fish and Wildlife Service, on aquatic conservation endeavors that benefit recreational fishery resources and recreational boating and that encourage partnerships among industry, the public, and government. The Council represents the interests of the public and private sectors of the recreational fishing, boating, and conservation communities and is organized to enhance partnerships among industry, constituency groups, and government. The 18-member Council, appointed by the Secretary of the Interior, includes, as ex officio members, the Service Director and the president of the Association of Fish and Wildlife Agencies. Other Council members are directors from State agencies responsible for managing recreational fish and wildlife resources and individuals who represent the interests of saltwater and freshwater recreational fishing, recreational boating, the recreational fishing and boating industries, recreational fisheries resource conservation, Native American tribes, aquatic resource outreach and education organizations, and tourism. Additional background information on the Council is available at http://www.fws.gov/sfbpc.

Meeting Agenda

An abbreviated list of planned agenda items for the meeting includes:

• Review the Report to the Assistant Secretary for Fish and Wildlife and Parks, Subject: Response to Secretary's Order 3347—Conservation Stewardship and Outdoor Recreation which was prepared by the Assistant Secretaries for Fish and Wildlife and Parks and Land and Minerals Management; this report provides recommendations to enhance and expand recreational fishing access;

• Based on the report, develop consensus-based Council recommendations to enhance and expand recreational fishing access;

• Hear and discuss updates on several U.S. Fish and Wildlife Service programs and other Council business.

The final agenda will be posted on the internet at http://www.fws.gov/sfbpc.

Public Input
If you want to . . . | Then you must contact the Council Coordinator (see FOR FURTHER INFORMATION CONTACT) no later than . . .
Attend the meeting | March 30, 2018.
Submit written information or questions before the meeting for the Council to consider during the meeting | March 30, 2018.
Give an oral presentation during the meeting | March 30, 2018.

Attendance

The Council meeting will be held at the Department of the Interior, 1849 C Street NW, Room 5160, Washington, DC 20240. Signs will be posted to direct attendees to the specific conference room. Individuals who plan to attend must bring a form of identification and pass through a security checkpoint.

Submitting Written Information or Questions

Interested members of the public may submit relevant information or questions for the Council to consider during the meeting. Written statements must be received by the date listed above in Public Input, so that the information may be made available to the Council for their consideration prior to the meeting. Written statements must be supplied to the Council Coordinator in one of the following formats: One hard copy with original signature, or one electronic copy via email (acceptable file formats are Adobe Acrobat PDF, MS Word, MS PowerPoint, or rich text file).

Before including your address, phone number, email address, or other personal identifying information in your comment, you should be aware that your entire comment—including your personal identifying information—may be made publicly available at any time. While you can ask us in your comment to withhold your personal identifying information from public review, we cannot guarantee that we will be able to do so.

Giving an Oral Presentation

Individuals or groups who request to make an oral presentation during the meeting will be limited to 2 minutes per speaker, with no more than a total of 30 minutes for all speakers. Interested parties should contact the Council Coordinator, in writing (preferably via email; see FOR FURTHER INFORMATION CONTACT), to register and be placed on the public speaker list for the meeting. Registered speakers who wish to expand upon their oral statements, or those who had wanted to speak but could not be accommodated on the agenda, may submit written statements to the Council Coordinator up to 30 days after the meeting.

Meeting Minutes

The Council's Designated Federal Officer will maintain meeting minutes (see FOR FURTHER INFORMATION CONTACT). Minutes will be available for public inspection within 90 days after the meeting and will be posted on the Council's website at http://www.fws.gov/sfbpc.

Gregory J. Sheehan,
Principal Deputy Director.

[FR Doc. 2018-05199 Filed 3-13-18; 8:45 am]

BILLING CODE 4333-15-P